DEPARTMENT OF ENERGY

Federal Energy Regulatory Commission

Combined Notice of Filings #1

September 13, 2010.

Take notice that the Commission received the following electric rate filings:

Docket Numbers: ER10-1978-001.

Applicants: Cleco Power LLC.

Description: Cleco Power LLC. submits tariff filing per 35.17(b): Attachment I 09/01/2010 update to be effective 9/1/2010.

Filed Date: 09/10/2010.

Accession Number: 20100910-5249.

Comment Date: 5 p.m. Eastern Time on Friday, October 1, 2010.

Docket Numbers: ER10-2029-001.

Applicants: Calpine Mid-Atlantic Marketing, LLC.

Description: Calpine Mid-Atlantic Marketing, LLC. submits tariff filing per 35.17(b): Supplement to Market-Based Rate Application to be effective 9/27/2010.

Filed Date: 09/10/2010.

Accession Number: 20100910-5201.

Comment Date: 5 p.m. Eastern Time on Friday, October 1, 2010.

Docket Numbers: ER10-2255-000.

Applicants: PJM Interconnection LLC.

Description: PJM Interconnection, LLC. submits an executed interconnection service agreement entered into among PJM, et al.

Filed Date: 08/16/2010.

Accession Number: 20100817-0203.

Comment Date: 5 p.m. Eastern Time on Wednesday, September 22, 2010.

Docket Numbers: ER10-2560-000.

Applicants: California Independent System Operator Corporation.

Description: California Independent System Operator Corporation submits tariff filing per 35: 2010-09-08 CAISO Multi-Stage Generation Resource Compliance to be effective 8/2/2010.

Filed Date: 09/08/2010.

Accession Number: 20100908-5094.

Comment Date: 5 p.m. Eastern Time on Wednesday, September 16, 2010.

Docket Numbers: ER10-2577-000.

Applicants: California Independent System Operator Corporation.

Description: California Independent System Operator Corporation submits tariff filing per 35.13(a)(2)(iii): 2010-09-09 CAISO MSG Delay Implementation Amendment to be effective 9/22/2010.

Filed Date: 09/09/2010.

Accession Number: 20100909-5169.

Comment Date: 5 p.m. Eastern Time on Thursday, September 30, 2010.

Docket Numbers: ER10-2585-000.

Applicants: Casco Bay Energy Company, LLC.

Description: Casco Bay Energy Company, LLC. submits tariff filing per 35.12: Market-Based Rate Tariff in Compliance with Order No. 714 to be effective 9/10/2010.

Filed Date: 09/10/2010.

Accession Number: 20100910-5203.

Comment Date: 5 p.m. Eastern Time on Friday, October 1, 2010.

Docket Numbers: ER10-2586-000.

Applicants: Dynegy Midwest Generation, Inc.

Description: Dynegy Midwest Generation, Inc. submits tariff filing per 35.12: Market-Based Rate Tariff in Compliance with Order No. 714 to be effective 9/10/2010.

Filed Date: 09/10/2010.

Accession Number: 20100910-5204.

Comment Date: 5 p.m. Eastern Time on Friday, October 1, 2010.

Docket Numbers: ER10-2587-000.

Applicants: Dynegy Morro Bay, LLC.

Description: Dynegy Morro Bay, LLC. submits tariff filing per 35.12: Market-Based Rate Tariff in Compliance with Order No. 714 to be effective 9/10/2010.

Filed Date: 09/10/2010.

Accession Number: 20100910-5205.

Comment Date: 5 p.m. Eastern Time on Friday, October 1, 2010.

Docket Numbers: ER10-2588-000.

Applicants: Dynegy South Bay, LLC.

Description: Dynegy South Bay, LLC. submits tariff filing per 35.12: Market-Based Rate Tariff in Compliance with Order No. 714 to be effective 9/10/2010.

Filed Date: 09/10/2010.

Accession Number: 20100910-5206.

Comment Date: 5 p.m. Eastern Time on Friday, October 1, 2010.

Docket Numbers: ER10-2589-000.

Applicants: Wisconsin Electric Power Company.

Description: Wisconsin Electric Power Company submits tariff filing per 35: Formula Rate Wholesale Sales Tariff to be effective 9/10/2010.

Filed Date: 09/10/2010.

Accession Number: 20100910-5207.

Comment Date: 5 p.m. Eastern Time on Friday, October 1, 2010.

Docket Numbers: ER10-2590-000.

Applicants: Dynegy Moss Landing, LLC.

Description: Dynegy Moss Landing, LLC. submits tariff filing per 35.12: Market-Based Rate Tariff in Compliance with Order No. 714 to be effective 9/10/2010.

Filed Date: 09/10/2010.

Accession Number: 20100910-5208.

Comment Date: 5 p.m. Eastern Time on Friday, October 1, 2010.

Docket Numbers: ER10-2591-000.

Applicants: Dynegy Roseton, LLC.

Description: Dynegy Roseton, LLC submits tariff filing per 35.12: Market-Based Rate Tariff in Compliance with Order No. 714 to be effective 9/10/2010.

Filed Date: 09/10/2010.

Accession Number: 20100910-5214.

Comment Date: 5 p.m. Eastern Time on Friday, October 1, 2010.

Docket Numbers: ER10-2592-000.

Applicants: Cleco Power LLC.

Description: Cleco Power LLC submits tariff filing per 35.12: LEPA SA 119/120 to be effective 9/1/2010.

Filed Date: 09/10/2010.

Accession Number: 20100910-5231.

Comment Date: 5 p.m. Eastern Time on Friday, October 1, 2010.

Docket Numbers: ER10-2593-000.

Applicants: Dynegy Oakland, LLC.

Description: Dynegy Oakland, LLC. submits tariff filing per 35.12: Market-Based Rate Tariff in Compliance with Order No. 714 to be effective 9/10/2010.

Filed Date: 09/10/2010.

Accession Number: 20100910-5239.

Comment Date: 5 p.m. Eastern Time on Friday, October 1, 2010.

Docket Numbers: ER10-2594-000.

Applicants: Monmouth Energy, Inc.

Description: Monmouth Energy, Inc. submits tariff filing per 35.12: Monmouth Energy, Inc. Baseline Market-Based Rate Tariff to be effective 9/10/2010.

Filed Date: 09/10/2010.

Accession Number: 20100910-5240.

Comment Date: 5 p.m. Eastern Time on Friday, October 1, 2010.

Docket Numbers: ER10-2595-000.

Applicants: Flat Ridge Wind Energy, LLC.

Description: Flat Ridge Wind Energy, LLC submits the Baseline Market-Based Wholesale Power Sales Tariff, to be effective 9/13/2010.

Filed Date: 09/13/2010.

Accession Number: 20100913-5036.

Comment Date: 5 p.m. Eastern Time on Monday, October 4, 2010.

Docket Numbers: ER10-2596-000.

Applicants: Fowler Ridge II Wind Farm LLC.

Description: Fowler Ridge II Wind Farm LLC submits its Baseline MBR Tariff Filing, to be effective 9/13/2010.

Filed Date: 09/13/2010.

Accession Number: 20100913-5038.

Comment Date: 5 p.m. Eastern Time on Monday, October 4, 2010.

Docket Numbers: ER10-2597-000.

Applicants: Fowler Ridge III Wind Farm LLC.

Description: Fowler Ridge III Wind Farm LLC submits its Baseline MBR Tariff Filing, to be effective 9/13/2010.

Filed Date: 09/13/2010.

Accession Number: 20100913-5039.

Comment Date: 5 p.m. Eastern Time on Monday, October 4, 2010.

Docket Numbers: ER10-2598-000.

Applicants: Rolling Thunder I Power Partners, LLC.

Description: Rolling Thunder I Power Partners, LLC submits tariff filing per 35.12: Baseline MBR Tariff Filing of Rolling Thunder I Power Partners, LLC to be effective 9/13/2010.

Filed Date: 09/13/2010.

Accession Number: 20100913-5040.

Comment Date: 5 p.m. Eastern Time on Monday, October 4, 2010.

Docket Numbers: ER10-2599-000.

Applicants: El Paso Electric Company.

Description: El Paso Electric Company submits an unexecuted non-conforming Large Generator Interconnection Agreement with Macho Springs Power I, LLC.

Filed Date: 09/10/2010.

Accession Number: 20100913-0204.

Comment Date: 5 p.m. Eastern Time on Friday, October 1, 2010.

Docket Numbers: ER10-2600-000.

Applicants: UNS Electric, Inc.

Description: UNS Electric, Inc. submits tariff filing per 35.12: Baseline Filing for UNS Electric, Inc. MBR Tariff to be effective 9/14/2010.

Filed Date: 09/13/2010.

Accession Number: 20100913-5138.

Comment Date: 5 p.m. Eastern Time on Monday, October 4, 2010.

Docket Numbers: ER10-2601-000.

Applicants: Power Resources, Ltd.

Description: Power Resources, Ltd. submits tariff filing per 35.12: Power Resources Market Based Rate Tariff to be effective 9/14/2010.

Filed Date: 09/13/2010.

Accession Number: 20100913-5139.

Comment Date: 5 p.m. Eastern Time on Monday, October 4, 2010.

Docket Numbers: ER10-2602-000.

Applicants: NewPage Energy Services, LLC.

Description: NewPage Energy Services, LLC submits its Baseline Market-Based Rate Tariff, to be effective 9/13/2010.

Filed Date: 09/13/2010.

Accession Number: 20100913-5186.

Comment Date: 5 p.m. Eastern Time on Monday, October 4, 2010.

Docket Numbers: ER10-2603-000.

Applicants: Rumford Paper Company.

Description: Rumford Paper Company submits tariff filing per 35.12: Rumford Paper Company Baseline Market-Based Rate Tariff to be effective 9/13/2010.

Filed Date: 09/13/2010.

Accession Number: 20100913-5187.

Comment Date: 5 p.m. Eastern Time on Monday, October 4, 2010.

Docket Numbers: ER10-2604-000.

Applicants: Luke Paper Company.

Description: Luke Paper Company submits tariff filing per 35.12: Luke Paper Company Baseline Market-Based Rate Tariff to be effective 9/13/2010.

Filed Date: 09/13/2010.

Accession Number: 20100913-5189.

Comment Date: 5 p.m. Eastern Time on Monday, October 4, 2010.

Docket Numbers: ER10-2605-000.

Applicants: Yuma Cogeneration Associates.

Description: Yuma Cogeneration Associates submits tariff filing per 35.12: Yuma Market Based Rate Tariff to be effective 9/14/2010.

Filed Date: 09/13/2010.

Accession Number: 20100913-5190.

Comment Date: 5 p.m. Eastern Time on Monday, October 4, 2010.

Docket Numbers: ER10-2606-000.

Applicants: Consolidated Water Power Company.

Description: Consolidated Water Power Company submits tariff filing per 35.12: Consolidated Water Power Company Baseline Market-Based Rate Tariff to be effective 9/13/2010.

Filed Date: 09/13/2010.

Accession Number: 20100913-5192.

Comment Date: 5 p.m. Eastern Time on Monday, October 4, 2010.

Docket Numbers: ER10-2607-000.

Applicants: Old Dominion Electric Cooperative.

Description: Old Dominion Electric Cooperative submits tariff filing per 35.12: Old Dominion Electric Cooperative Baseline Tariff Filings to be effective 9/13/2010.

Filed Date: 09/13/2010.

Accession Number: 20100913-5200.

Comment Date: 5 p.m. Eastern Time on Monday, October 4, 2010.

Docket Numbers: ER10-2608-000.

Applicants: Southwest Power Pool, Inc.

Description: Southwest Power Pool, Inc. submits tariff filing per 35.13(a)(2)(iii): 2044 Union Wind, LLC. GIA to be effective 8/23/2010.

Filed Date: 09/13/2010.

Accession Number: 20100913-5212.

Comment Date: 5 p.m. Eastern Time on Monday, October 4, 2010.

Docket Numbers: ER10-2609-000.

Applicants: Escanaba Paper Company.

Description: Escanaba Paper Company submits tariff filing per 35.12: Escanaba Paper Company Baseline Market-Based Rate Tariff to be effective 9/13/2010.

Filed Date: 09/13/2010.

Accession Number: 20100913-5217.

Comment Date: 5 p.m. Eastern Time on Monday, October 4, 2010.

Docket Numbers: ER10-2610-000.

Applicants: Dynegy Services Plum Point, LLC.

Description: Dynegy Services Plum Point, LLC submits tariff filing per 35.12: Market-Based Rate Tariff in Compliance with Order No. 714 to be effective 9/13/2010.

Filed Date: 09/13/2010.

Accession Number: 20100913-5224.

Comment Date: 5 p.m. Eastern Time on Monday, October 4, 2010.

Docket Numbers: ER10-2611-000.

Applicants: Saranac Power Partners, L.P.

Description: Saranac Power Partners, L.P. submits tariff filing per 35.12: Saranac Market Based Rate Tariff to be effective 9/14/2010.

Filed Date: 09/13/2010.

Accession Number: 20100913-5237.

Comment Date: 5 p.m. Eastern Time on Monday, October 4, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-23592 Filed 9-21-10; 8:45 am]

BILLING CODE 6717-01-P